DEPARTMENT OF THE INTERIOR

Bureau of Land Management

[ID-084-1430-ES]

Notice of Intent To Amend the Challis Resource Management Plan, Idaho

AGENCY: Bureau of Land Management, Interior.

ACTION: Notice of intent to amend the Challis Resource Management Plan, Idaho.

SUMMARY: Pursuant to the Federal Land Policy and Management Act of 1976 (FLPMA) and the National Environmental Policy Act of 1969 (NEPA), this notice is to advise the public that the Bureau of Land Management (BLM) is proposing to amend the Challis Resource Management Plan (RMP). The amendment and associated environmental analysis would allow for the potential disposal of public land to Custer County for a solid waste disposal and transfer area near Mackay, Idaho.

DATES: The public scoping period for the proposal will commence with publication of this notice. Comments regarding this proposal must be submitted in writing to the address below within 30 days after the date of publication of this notice in the Federal Register.

ADDRESSES: Written comments regarding the proposed plan amendment and disposal of public land should be sent to: Attention: Realty Specialist. Challis Field Office, 801 Blue Mountain Road, Challis, Idaho 83226-9358; or they may be faxed to (208) 879-6219; or e-mailed to Gail O'Neill@blm.gov. Existing planning documents and information are also available for review at the Challis Field Office. Comments, including names and addresses of respondents, will be available for public review at the above address during regular business hours, Monday through Friday, 7:30-4:30 pm, except holidays, and may be published as part of this amendment. Individual respondents may request confidentiality. If you wish to withhold your name or street address from public review or from disclosure under the Freedom of Information Act, you must state this prominently at the beginning of your written comment. Anonymous comments will not be considered. Such requests will be honored to the extent allowed by law. All submissions from organizations or businesses, and from individuals identifying themselves as representatives or officials of organizations or businesses, will be made available for public inspection in their entirety.

FOR FURTHER INFORMATION CONTACT: Gail O'Neill, Associate Field Manager, at (208) 879-6250. To have your name added to our mailing list, contact Brenda Buckland at (208) 879-6200 or via e-mail at: Brenda_Buckland@blm.gov.

SUPPLEMENTARY INFORMATION: Custer County has asked the BLM to help them locate and acquire land that is suitable for a solid waste transfer site. Potential land disposal areas for this purpose are not currently identified in the Challis RMP.

The BLM will work collaboratively with interested parties to identify the management decisions that are best suited to local and regional needs as well as national needs and concerns. This notice initiates the public scoping process to identify specific issues related to the proposed amendment and NEPA process and the appropriate level of NEPA analysis that may be required.

At least one public meeting will be held in or near Mackay, Idaho to ensure the opportunity for local community participation and input. Early participation is encouraged. In addition to the public meeting, opportunities for public participation will be available during the development of alternatives and upon publication of the BLM proposed plan amendment and Notice of Realty Action. Notification of the proposal and updates will be sent to various State and local government agencies, interest groups, the Shoshone-Bannock Tribes, permittees, and other interested publics. All public meetings will be announced through the local news media and will be posted on the BLM Web site (http://web.id.blm.gov) at least 15 days in advance of the meetings.

Dated: September 16, 2004.
Gail O'Neill,
Acting Challis Field Manager.

[FR Doc. 05-1017 Filed 1-18-05; 8:45 am]

BILLING CODE 4310-GG-P